DEPARTMENT OF COMMERCE

National Oceanic and Atmospheric Administration

Agency Information Collection Activities; Submission to the Office of Management and Budget (OMB) for Review and Approval; Comment Request; Large Pelagic Fishing Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 5, 2024.

ADDRESSES: Interested persons are invited to submit written comments to Adrienne Thomas, NOAA PRA Officer, at NOAA.PRA@noaa.gov. Please reference OMB Control Number 0648-0380 in the subject line of your comments. Do not submit Confidential Business Information or otherwise sensitive or protected information.

FOR FURTHER INFORMATION CONTACT: Requests for additional information or specific questions related to collection activities should be directed to John Foster, National Marine Fisheries Service, Office of Science and Technology, 1315 East-West Hwy./FST1, Silver Spring, MD 21910, Phone: (301) 427-8130 or john.foster@noaa.gov.

SUPPLEMENTARY INFORMATION:

I. Abstract

This request is for the extension of a currently approved information collection.

The National Marine Fisheries Service (NMFS) is responsible for monitoring and managing United States (U.S.) marine fisheries resources. Collection of information regarding fishing for large pelagic species (tunas, billfishes, swordfish, and sharks) is necessary to fulfill the following statutory requirements: Atlantic Tunas Convention Act (16 U.S.C. 971 et seq.), the Magnuson-Stevens Fishery Conservation and Management Act (16 U.S.C. 1801 et seq.), and to meet administrative requirements of the National Marine Fisheries Service (NMFS) Marine Recreational Fishery Policy implemented to comply with Executive Order 12962 on Recreational Fisheries.

The Atlantic Tunas Convention Act at 16 U.S.C. 971d(c)(3)(I) provides the Secretary of Commerce the authority to “require any commercial or recreational fisherman to obtain a permit from the Secretary and report the quantity of catch of a regulated species”. Section 303(a) of the Magnuson-Stevens Act specifies data and analyses to be included in Fishery Management Plans (FMPs), as well as pertinent data, which shall be submitted to the Secretary of Commerce under the plan. Recommendation One of the NMFS Marine Recreational Fishery (MRF) Policy focuses on developing “a comprehensive data acquisition and analysis system (participation, catch, effort and socio-economic data) on a regular, continuing basis” in support of the Executive Order 12962 requirement to assess the implementation and evaluate achievements of the “Recreational Fishery Resources Conservation Plan.”

Because highly migratory species are only sought on a relatively small proportion of the total marine recreational angler fishing trips made, the fishing effort directed at such species, and the resulting angler catches are generally not estimated very precisely or accurately by general (all species) recreational surveys. Therefore, the Large Pelagics Survey (LPS) was designed as a specialized survey that would focus specifically on the recreational fishery directed at large pelagic, also called highly migratory, species. This specialization has allowed higher levels of sampling needed to provide more precise and accurate estimates of pelagic fishing effort and catches of large pelagic species.

The LPS consists of two complementary surveys: a directory frame telephone survey of tuna and/or HMS permit holders to obtain fishing effort information (Large Pelagic Telephone Survey or LPTS), and a dockside survey which collects catch information and also estimates the proportion of vessels fishing for large pelagics that are not on the telephone frame (Large Pelagic Intercept Survey or LPIS). Results from the two survey components are combined to estimate total landings of Highly Migratory Species. In addition, we are requesting approval to continue to implement the Large Pelagic Biological Survey (LPBS) to collect supplemental weight and length measurements of landed fish through independent dockside sampling, as well as LPIS Validation telephone calls to validate LPIS data. Implementation of certain components will depend on fiscal year funding and NMFS priorities.

NMFS, regional fishery management councils, interstate marine fisheries commissions, and state fishery agencies use the data in developing, implementing and monitoring fishery management programs. This collection has been the key source of data used to monitor recreational quotas for the harvest of bluefin tuna in the Mid-Atlantic and southern New England regions. Catch distributions, harvested size distributions, and other indices obtained in this data collection have formed the basis of fishery management plans and used in stock assessments for Atlantic highly migratory species such as tunas, billfish, swordfish and sharks.

II. Method of Collection

Dockside (in-person) interviews and telephone interviews.

III. Data

OMB Control Number: 0648-0380.

Form Number(s): None.

Type of Review: Regular submission (extension of a current information collection).

Affected Public: Individuals or households; business or other for-profit organizations.

Estimated Number of Respondents: 15,024.

Estimated Time Per Response: 11 minutes for a telephone interview; 5 minutes for a dockside interview, 1½ minutes to respond to a follow-up validation call for dockside interviews; 1 minute for biological sampling of catch.

Estimated Total Annual Burden Hours: 3,608.

Estimated Total Annual Cost to Public: $0 in recordkeeping/reporting costs.

Respondent's Obligation: Mandatory.

Legal Authority: Magnuson-Stevens Fishery Conservation and Management Act, Atlantic Tunas Convention Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-24440 Filed 11-3-23; 8:45 am]

BILLING CODE 3510-22-P